DEPARTMENT OF THE TREASURY

Internal Revenue Service

Advisory Committee to the Internal Revenue Service; Meeting

AGENCY: Internal Revenue Service (IRS), Treasury.

ACTION: Notice.

SUMMARY: The Information Reporting Program Advisory Committee (IRPAC) will hold a public meeting on Wednesday, October 20, 2010.

FOR FURTHER INFORMATION CONTACT: Ms. Caryl Grant, National Public Liaison, CL:NPL:SRM, Rm. 7559, 1111 Constitution Avenue, NW., Washington, DC 20224. Phone: 202-927-3641 (not a toll-free number). E-mail address: public_liaison@irs.gov.

SUPPLEMENTARY INFORMATION: Notice is hereby given pursuant to section 10(a)(2) of the Federal Advisory Committee Act, 5 U.S.C. App. (1988), a public meeting of the IRPAC will be held on Wednesday, October 20, 2010 from 9:30 a.m. to 12:30 p.m. at Four Points by Sheraton, 1201 K Street, NW., Washington, DC. Report recommendations on issues that may be discussed include: Foreign Account Tax Compliance Act, § 6050W information reporting of payments made in settlement of payment card and third party network transactions, expansion of information reporting under § 6041, electronic furnishing of Forms 1098, 1099, 5498 and W-2, backup withholding procedures requiring SSN validation following receipt of second B Notice, information regarding non-resident alien taxation and tax reporting, withholding tax issues, Identity Theft, Form 1099-DIV, Box 10, foreign tax paid, Form 5948 and fair market value reporting for deceased and successor beneficiaries, reporting of return of mistaken HSA contributions to an employer, Form 1099R reporting under EPCRS guidelines SEP, SARSEP, and Simple excesses returned to employer, Form 5498-SA, HSA, Archer MSA, or Medicare Advantage MSA information due date change, NRA documentation and Form 1042 withholding issues on freight shipping and other transportation issues, Cost Basis and Draft 2011 Form 1099-B, K-1 matching, information reporting for tax credit bonds and stripped tax credits, electronic Power of Attorney validation for business returns, Central Withholding Agreements, IRS Business Master File, staggered B-notices, Form 8886 Reportable Transaction Disclosure Statement, methodology of estimating Estate Tax non-compliance and underreporting, health care valuation on W-2, tip reporting compliance and enforcement, EINs for qualified plans and trusts, transparency for abusive use of multiple EINs, 2009 Form 5500 automatic extension for calendar year plans, and basis allocation for direct rollovers. Last minute agenda changes may preclude advance notice. Due to limited seating and security requirements, please call or email Caryl Grant to confirm your attendance. Ms. Grant can be reached at 202-927-3641 or public_liaison@irs.gov. Should you wish the IRPAC to consider a written statement, please call 202-927-3641, or write to: Internal Revenue Service, Office of National Public Liaison, CL:NPL:SRM, Room 7559, 1111 Constitution Avenue, NW., Washington, DC 20224 or e-mail: public_liaison@irs.gov.

Dated: September 23, 2010.
Candice Cromling,
Director, National Public Liaison.

[FR Doc. 2010-25041 Filed 10-5-10; 8:45 am]

BILLING CODE 4830-01-P